ENVIRONMENTAL PROTECTION AGENCY

[EPA-UST-2010-0625; FRL-9915-84-OEI]

Information Collection Request Submitted to OMB for Review and Approval; Comment Request; Underground Storage Tanks: Technical and Financial Requirements, and State Program Approval Procedures (Renewal)

AGENCY: Environmental Protection Agency (EPA).

ACTION: Notice.

SUMMARY: The Environmental Protection Agency has submitted an information collection request (ICR), “Underground Storage Tanks: Technical and Financial Requirements, and State Program Approval Procedures (Renewal)” (EPA ICR No. 1360.13, OMB Control No. 2050-0068) to the Office of Management and Budget (OMB) for review and approval in accordance with the Paperwork Reduction Act (44 U.S.C. 3501 et seq.). This is a proposed extension of the ICR, which is currently approved through September 30, 2014. Public comments were previously requested via the Federal Register (79 FR 22487) on April 22, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 23, 2014.

ADDRESSES: Submit your comments, referencing Docket ID Number Docket ID No. EPA-HQ-UST-2010-0625 online using www.regulations.gov (our preferred method), by email to mcdermott.elizabeth@epa.gov, or by mail to: (1) EPA Docket Center, Environmental Protection Agency, Mail Code 28221T, 1200 Pennsylvania Ave. NW., Washington, DC 20460 and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Elizabeth McDermott, Office of Underground Storage Tanks, Mail Code 5401P, Environmental Protection Agency, 1200 Pennsylvania Ave. NW., Washington, DC 20460; telephone number: (703) 603-7175; fax number: (703) 603-0175; email address: mcdermott.elizabeth@epa.gov.

SUPPLEMENTARY INFORMATION: Supporting documents, which explain in detail the information that the EPA will be collecting, are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Subtitle I of the Resource Conservation and Recovery Act (RCRA), as amended, requires that EPA develop standards for Underground Storage Tank (UST) systems as may be necessary to protect human health and the environment, and procedures for approving state programs in lieu of the federal program. EPA promulgated technical and financial requirements for owners and operators of USTs at 40 CFR part 280, and state program approval procedures at 40 CFR part 281. This ICR is a comprehensive presentation of all information collection requirements contained at 40 CFR parts 280 and 281.

The data collected for new and existing UST system operations and financial requirements are used by owners and operators and/or EPA or the implementing agency to monitor results of testing, inspections, and operation of UST systems, as well as to demonstrate compliance with regulations.

Form Numbers: None.

Respondents/affected entities: Owners and operators of USTs.

Respondent's obligation to respond: Mandatory per 40 CFR Parts 280 and 281.

Estimated number of respondents: 211,686.

Frequency of response: Once and on occasion.

Total estimated burden: 5,068,897 hours (per year). Burden is defined at 5 CFR 1320.03(b).

Total estimated cost: $375,584,849 (per year), includes $223,435,559 annualized capital or operation & maintenance costs.

Changes in the Estimates: There is a decrease of 1,684,661 hours in the total estimated respondent burden compared with the ICR currently approved by OMB. This decrease is due to an update in the respondent universe and burden estimates based on updated data from the Office of Underground Storage Tanks (OUST) and the regulated community. EPA also slightly reduced the burden associated with notification requirements.

Courtney Kerwin,
Acting Director, Collection Strategies Division.

[FR Doc. 2014-22557 Filed 9-22-14; 8:45 am]

BILLING CODE 6560-50-P